DEPARTMENT OF COMMERCE

National Oceanic and Atmospheric Administration

RIN 0648-XB27

Marine Mammals; File No. 373-1868

AGENCY: National Marine Fisheries Service (NMFS), National Oceanic and Atmospheric Administration (NOAA), Commerce.

ACTION: Notice; receipt of applications for amendment.

SUMMARY: Notice is hereby given that Point Reyes Bird Observatory, 3820 Cypress Drive #11, Petaluma, California 94954, has requested an amendment to scientific research Permit No. 373-1868.

DATES: Written, telefaxed, or e-mail comments must be received on or before August 9, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 373-1868-01.

FOR FURTHER INFORMATION CONTACT: Jaclyn Daly or Amy Sloan, (301)713-2289.

SUPPLEMENTARY INFORMATION: The subject amendment to Permit No. 373-1868, issued on April 4, 2007 (72 FR 17875), is requested under the authority of the Marine Mammal Protection Act of 1972, as amended (16 U.S.C. 1361 et seq.), and the regulations governing the taking and importing of marine mammals (50 CFR part 216).

The applicant has requested an amendment for authorization to harass up to 20 Steller sea lions (Eumetopias jubatus), annually, during research activities on California sea lions (Zalophus californianus) and northern elephant seals (Mirounga angustirostris) in California. The permit would expire on April 15, 2012.

Concurrent with the publication of this notice in the Federal Register, NMFS is forwarding copies of this application to the Marine Mammal Commission and its Committee of Scientific Advisors.

Dated: July 3, 2007.
P. Michael Payne,
Chief, Permits, Conservation and Education Division, Office of Protected Resources, National Marine Fisheries Service.

[FR Doc. E7-13363 Filed 7-9-07; 8:45 am]

BILLING CODE 3510-22-S